DEPARTMENT OF COMMERCE

Bureau of Industry and Security

Action Affecting Export Privileges: Aviation Services International B.V.; Delta Logistics, B.V.; Robert Kraaipoel; Niels Kraaipoel; T.P.C B.V.; Mia Van Gemert; Mojir Trading; Reza Amidi; Lavantia, Ltd.; and Mita Zarek

In the Matter of:
Aviation Services International B.V., P.O. Box 418, Heerhugowaard, Netherlands 1700AK.
Aviation Services International B.V., Fleming Straat 36, Heerhugowaard, Netherlands 1704SL.
Delta Logistics B.V., Fleming Straat 36, Heerhugowaard, Netherlands 1704SL.
Delta Logistics B.V., P.O. Box 418, Heerhugowaard, Netherlands 1700AK.
Robert Kraaipoel, P.O. Box 418, Heerhugowaard, Netherlands 1700AK.
Robert Kraaipoel, Fleming Straat 36, Heerhugowaard, Netherlands 1704SL.
Robert Kraaipoel, P.O. Box 418, Heerhugowaard, Netherlands 1700AK.
Niels Kraaipoel, Fleming Straat 36, Heerhugowaard, Netherlands 1704SL.
T.P.C. B.V., P.O. Box 418, Heerhugowaard, Netherlands 1700AK.
T.P.C. B.V., Fleming Straat 36, Heerhugowaard, Netherlands 1704SL.
T.P.C. B.V., P.O. Box 11 1700AA, Heerhugowaard, Netherland.
Mia Van Gemert, P.O. Box 418, Heerhugowaard, Netherlands 1700AK.
Mia Van Gemert, Fleming Straat 36, Heerhugowaard, Netherlands 1704SL.
Mojir Trading, PO Box 18118, Jabel-Ali Free Zone, Dubai-UAE.
Reza Amidi, PO Box 18118, Jabel-Ali Free Zone, Dubai-UAE.
Lavantia Ltd., 16 Kyrakou Matsi Ave, 3rd Floor, 1082 Nicosia, Cyprus.
Mita Zarek, 16 Kyrakou Matsi Ave, 3rd Floor, 1082 Nicosia, Cyprus.
Respondents.

Order Temporarily Denying Export Privileges

Pursuant to Section 766.24 of the Export Administration Regulations (“EAR”) ¹, the Bureau of Industry and Security (“BIS”), U.S. Department of Commerce, through its Office of Export Enforcement (“OEE”), has requested that I issue an Order temporarily denying the export privileges under the EAR of:

¹ The EAR are currently codified at 15 CFR Parts 730-774 (2007). The EAR are issued under the Export Administration Act of 1979, as amended (50 U.S.C. app. §§2401-2420 (2000)) (“EAA”). Since August 21, 2001, the EAA has been in lapse and the President, through Executive Order 13222 of August 17, 2001 (3 C.F.R., 2001 Comp. 783 (2002)), as extended by the Notice of August 15, 2007 (72 FR 46137 (Aug. 16, 2007)), has continued the Regulations in effect under the International Emergency Economic Powers Act (50 U.S.C. 1701-1706 (2000)) (“IEEPA”).

(1) AVIATION SERVICES INTERNATIONAL B.V., Fleming Straat 36, 1704 SL, Heerhugowaard, the Netherlands, and P.O. Box 418, Heerhugowaard, Netherlands 1700 (“ASI”).

(2) TPC, B.V., Fleming Straat 36, Heerhugowaard, Netherlands 1704SL and P.O. Box 11, 1700AA Heerhugowaard, Netherlands and P.O. Box 418, Heerhugowaard, Netherlands 1700AK.

(3) DELTA LOGISTICS, B.V., Fleming Straat 36, Heerhugowaard, Netherlands 1704SL and P.O. Box 11, 1700AA Heerhugowaard, Netherlands.

(4) ROBERT KRAAIPOEL, Fleming Straat 36, Heerhugowaard, Netherlands 1704SL, and P.O. Box 418, Heerhugowaard, Netherlands 1700AK.

(5) NIELS KRAAIPOEL, Fleming Straat 36, Heerhugowaard, Netherlands 1704SL and P.O. Box 418, Heerhugowaard, Netherlands 1700AK.

(6) MIA VAN GEMERT, Fleming Straat 36, Heerhugowaard, Netherlands 1704SL and P.O. Box 418, Heerhugowaard, Netherlands 1700AK.

(7) MOJIR TRADING, P.O. Box 18118, Jabel-Ali Free Zone, Dubai-UAE.

(8) REZA AMIDI, P.O. Box 18118, Jabel-Ali Free Zone, Dubai-UAE.

(9) LAVANTIA, Ltd., 16 Kyriakou Matsi Ave., 3rd Floor, 1082 Nicosia, Cyprus.

(10) MITA ZAREK, 16 Kyrakou Matsi Ave., 3rd Floor, 1082 Nicosia, Cyprus. (hereinafter collectively referred to as the “Respondents”) for 180 days.

On August 29, 2007, four of the Respondents, Aviation Services International, B.V. (“ASI”) and its president, Robert Kraaipoel, and TPC, B.V. and Delta Logistics, B.V., two companies owned and operated by Robert Kraaipoel and his son, Niels Kraaipoel, were criminally charged with five counts of violations encompassing IEEPA, the Iranian Transactions Regulations (“ITR”) ² of the Treasury Department's Office of Foreign Assets Control (“OFAC”), and 18 U.S.C. 1001 and 2. The criminal complaint alleged that they participated in the willful export and attempted export to Iran of U.S. origin items during the 2006-2007 period without the required authorization from OFAC and made false statements in 2005 and 2006 to the U.S. Government regarding end-use and end-users in connection with the export of U.S. origin items. The complaint also alleged that Niels Kraaipoel, ASI's sales manager, was aware of the U.S. embargo against Iran. The Respondents allegedly exported or attempted to export items through the Netherlands to Iran and concealed the true identify of the end-users.

² 31 CFR 560 (2007).

In its request, BIS has presented evidence that shows that on two occasions in 2005 and 2006, the Respondents caused the export of items subject to the EAR and set forth on the Commerce Control List ³ from the United States to Netherlands and made false statements regarding end-use and end-users in connection with these transactions. Specifically, in November 2005 and January 2006, the Respondents caused receivers and video transmitters to be exported from the United States to the Netherlands. These items are subject to the EAR and are controlled for anti-terrorism reasons (ECCN ⁴ 5A991). The Respondents falsely claimed that the ultimate consignee was the Polish Border Control Agency (“PBCA”) in Poland and that the items would be used by PBCA in Unmanned Air Vehicles (“UAVs”). The U.S. Government obtained information indicating that the PBCA did not own UAVs and therefore would have no need for this type of equipment. Further, the information demonstrated that the PBCA had never contracted with ASI for equipment of any kind. ASI provided this false information to the U.S. exporter who in turn included it on the Shipper's Export Declarations (“SEDs”) it filed with the U.S. Government.

³ 15 CFR Part 744, Supp.1 (2007).

⁴ “ECCN” refers to “Export Control Classification Number.” See Supp. 1 to 15 CFR 774.

Subsequently, as alleged in the criminal complaint, in May 2007, in response to a request from the U.S. exporter for end-user information regarding spare parts to be provided for the electronic equipment previously purchased by ASI, an employee of ASI submitted an end-user statement from Lavantia, Ltd., a business purportedly located in Nicosia, Cyprus that is believed to serve as a purchaser of U.S.-origin items for Iranian businesses and governmental agencies.

Additionally, BIS has presented evidence that shows that the Respondents made false statements regarding end-use and end-users in connection with the causing of an attempted export of national security-controlled items to the Netherlands. The criminal complaint alleges that this shipment was actually an attempted unlawful export to Iran in violation of the ITR and IEEPA. Specifically, on or about March 30, 2007, a U.S. company attempted to ship polymide film, an item subject to the EAR and controlled for national security reasons (ECCN 1C008.A.3), to Delta Logistics in the Netherlands. The shipment was detained when it was discovered that Delta Logistics was in fact ASI operating under a different name. When asked by the U.S. freight forwarder to provide an end-user statement, ASI's Robert Kraaipoel refused. Robert Kraaipoel subsequently represented to the U.S. exporter that he had a buyer for the item named Mojir Trading, located in Dubai, UAE. On or about July 9, 2007, the U.S. exporter received a purchase order and end-user statement purportedly from Mojir Trading's managing director stating that the polymide film was destined for the UAE, and that the film would be used for sealing large electromotor fittings. The purchase order demonstrated that Delta Logistics B.V., a company owned by Niels Kraaipoel and Robert Kraaipoel, participated in this transaction. Following repeated efforts to contact Mojir Trading, the U.S. Government determined that there was no listing in the UAE for either the company or its purported managing director.

I find that the evidence presented by BIS demonstrates that the Respondents have knowingly violated the EAR, that such violations have been deliberate and covert, and that there is a likelihood of future violations, particularly given the nature of the transactions. For these reasons, I find that an imminent violation exists within the meaning of Section 766.24(b)(2). As such, a Temporary Denial Order (“TDO”) is needed to give notice to persons and companies in the United States and abroad that they should cease dealing with the Respondents in export transactions involving items subjects to the EAR. Such a TDO is consistent with the public interest to preclude future violations of the EAR.

Accordingly, I find that a TDO naming Aviation Services International, B.V., T.P.C, B.V., and Delta Logistics, B.V., in the Netherlands, and Lavantia, Ltd. in Cyprus, and Mojir Trading in the U.A.E., respectively, and Robert Kraaipoel, Niels Kraaipoel, Mia Van Gemert, Reza Amidi, and Mita Zarek, as Respondents is necessary, in the public interest, to prevent an imminent violation of the EAR. This Order is issued on an ex parte basis without a hearing based upon BIS's showing of an imminent violation.

It is therefore ordered:

First, that the Respondents, AVIATION SERVICES INTERNATIONAL B.V., Fleming Straat 36, 1704 SL, Heerhugowaard, the Netherlands, and P.O. Box 418, Heerhugowaard, Netherlands 1700, and T.P.C., B.V., Fleming Straat 36, Heerhugowaard, Netherlands 1704SL and P.O. Box 11, 1700AA Heerhugowaard, Netherlands and P.O. Box 418, Heerhugowaard, Netherlands 1700AK; and DELTA LOGISTICS, B.V., Fleming Straat 36, Heerhugowaard, Netherlands 1704SL and P.O. Box 11, 1700AA Heerhugowaard, Netherlands; and LAVANTIA, Ltd., 16 Kyriakou Matsi Ave, 3rd Floor, 1082 Nicosia, Cyprus; and ROBERT KRAAIPOEL, Director and Principal Officer of Aviation Services International B.V., Fleming Straat 36, Heerhugowaard, Netherlands 1704SL, and P.O. Box 418, Heerhugowaard, Netherlands 1700AK; and NIELS KRAAIPOEL, ASI Sales Manager, Fleming Straat 36, Heerhugowaard, Netherlands 1704SL and P.O. Box 418, Heerhugowaard, Netherlands 1700AK; and MIA VAN GEMERT, Managing Director of ASI, Fleming Straat 36, Heerhugowaard, Netherlands 1704SL and P.O. Box 418, Heerhugowaard, Netherlands 1700AK; and MOJIR TRADING, PO Box 18118, Jabel-Ali Free Zone, Dubai-UAE; and REZA AMIDI, PO Box 18118, Jabel-Ali Free Zone, Dubai-UAE; and MITA ZAREK, owner of Lavantia Ltd., 16 Kyrakou Matsi Ave, 3rd Floor, 1082 Nicosia, Cyprus, (collectively the “Denied Persons”), may not, directly or indirectly, participate in any way in any transaction involving any commodity, software or technology (hereinafter collectively referred to as “item”) exported or to be exported from the United States that is subject to the Export Administration Regulations (“EAR”), or in any other activity subject to the EAR, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefiting in any way from any transaction involving any item exported or to be exported from the United States that is subject to the EAR, or in any other activity subject to the EAR.

Second, that no person may, directly or indirectly, do any of the following:

A. Export or reexport to or on behalf of the Denied Persons any item subject to the EAR;

B. Take any action that facilitates the acquisition or attempted acquisition by the Denied Persons of the ownership, possession, or control of any item subject to the EAR that has been or will be exported from the United States, including financing or other support activities related to a transaction whereby the Denied Persons acquire or attempt to acquire such ownership, possession or control;

C. Take any action to acquire from or to facilitate the acquisition or attempted acquisition from the Denied Persons of any item subject to the EAR that has been exported from the United States;

D. Obtain from the Denied Persons in the United States any item subject to the EAR with knowledge or reason to know that the item will be, or is intended to be, exported from the United States; or

E. Engage in any transaction to service any item subject to the EAR that has been or will be exported from the United States and which is owned, possessed or controlled by the Denied Persons, or service any item, of whatever origin, that is owned, possessed or controlled by the Denied Persons if such service involves the use of any item subject to the EAR that has been or will be exported from the United States. For purposes of this paragraph, servicing means installation, maintenance, repair, modification or testing.

Third, that, after notice and opportunity for comment as provided in section 766.23 of the EAR, any other person, firm, corporation, or business organization related to any of the Denied Persons by affiliation, ownership, control, or position of responsibility in the conduct of trade or related services may also be made subject to the provisions of this Order.

Fourth, that this Order does not prohibit any export, reexport, or other transaction subject to the EAR where the only items involved that are subject to the EAR are the foreign-produced direct product of U.S.-origin technology.

In accordance with the provisions of Section 766.24(e) of the EAR, the Respondents may, at any time, appeal this Order by filing a full written statement in support of the appeal with the Office of the Administrative Law Judge, U.S. Coast Guard ALJ Docketing Center, 40 South Gay Street, Baltimore, Maryland 21202-4022.

In accordance with the provisions of Section 766.24(d) of the EAR, BIS may seek renewal of this Order by filing a written request with the Assistant Secretary not later than 20 days before the expiration date and serving the request on the Respondents. The Respondents may oppose a request to renew this Order by filing a written submission with the Assistant Secretary of Commerce for Export Enforcement, which must be received not later than seven days before the expiration date of the Order.

A copy of this Order shall be served on the Respondents and shall be published in the Federal Register.

This Order is effective upon date of publication and shall remain in effect for 180 days.

Entered this 1st day of October, 2007.
Darryl W. Jackson,
Assistant Secretary of Commerce for Export Enforcement.

[FR Doc. 07-4995 Filed 10-9-07; 8:45 am]

BILLING CODE 3510-DT-M